DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 2500 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than December 2, 2002.

Also, interested persons are invited to submit written comments regarding the subject matter of the petitions to the Director of DTAA at the address shown below not later than December 2, 2002.

Petitions filed with the Governors are available for inspection at the Office of the Director, DTAA, ETA, DOL, Room C-5311, 200 Constitution Avenue, NW. Washington, DC 20210.

Signed at Washington, DC this 28th day of October, 2002.
Edward A. Tomchick,
Director, Division of Trade Adjustment Assistance.

Appendix
Subject firm | Location | Date received at Governor's Office | Petition No. | Articles produced
Fred B. Moe Logging (Co.) | Centralia, WA | 09/16/2002 | NAFTA-7,547 | Logging.
ADC Telecommunications (Wkrs) | Vadnais Heights, MN | 09/10/2002 | NAFTA-7,548 | Pump lasers, broad area lasers.
Exide Technologies (Wkrs) | Columbus, GA | 09/10/2002 | NAFTA-7,549 | Automotive and industrial batteries.
Volex, Inc. (Comp) | Clinton, AR | 09/10/2002 | NAFTA-7,550 | Rubber electrical power cords.
Nordic Gear (Co.) | Newport, PA | 09/11/2002 | NAFTA-7,551 | Sew fleece products.
Nordic Gear (Co.) | Millersburg, PA | 09/11/2002 | NAFTA-7,552 | Sew fleece products.
Foothills (Co.) | Albany, KY | 09/10/2002 | NAFTA-7,553 | Apparel.
VF Imagewear (Co.) | Sparta, TN | 09/10/2002 | NAFTA-7,554 | Work wear coveralls and pants.
Federal Mogul (Co.) | Sevierville, TN | 09/10/2002 | NAFTA-7,555 | Lighting components.
Waukesha Electric Systems (Co.) | Milpitas, CA | 09/09/2002 | NAFTA-7,556 | Large power transformers.
MEI—Mars, Inc. (Co.) | West Chester, PA | 09/12/2002 | NAFTA-7,557 | Validators and coin acceptors.
Traction Technologies Group (Co.) | Jonesboro, AR | 09/11/2002 | NAFTA-7,558 | Axle components.
Makita Corporation of America (Co.) | Buford, GA | 09/12/2002 | NAFTA-7,559 | Battery and electric power tools.
Toyo Tanso PA Graphite, Inc. (Comp) | Brookville, PA | 09/13/2002 | NAFTA-7,560 | Isomolded graphite.
Comair Rotron (Co.) | San Diego, CA | 09/11/2002 | NAFTA-7,561 | Fans and blowers—cooling systems.
Tritex Sportsware (Co.) | Altoona, PA | 09/16/2002 | NAFTA-7,562 | Men's, women's and children's outerwear.
dj Orthopedics, LLC (Co.) | Vista, CA | 09/16/2002 | NAFTA-7,563 | Rigid bracing products.
Georgia Pacific (Wkrs) | Bowden, NC | 09/18/2002 | NAFTA-7,564 | Lumber.
Baker Electrical Products (Co.) | Memphis, MI | 09/17/2002 | NAFTA-7,565 | Coil windings.
Hy Lift (UAW) | Muskegon, MI | 09/17/2002 | NAFTA-7,566 | Valve lifters.
Holloway Sportwear, Inc. (Wkrs) | Many, LA | 06/16/2002 | NAFTA-7,567 | Suits, pants, pullovers, jackets.
Holloway Sportwear, Inc. (Wkrs) | Olla, LA | 06/16/2002 | NAFTA-7,567 | Suits, pants, pullovers, jackets.
Molded Container (Wkrs) | Portland, OR | 08/12/2002 | NAFTA-7,568 | Packaging for food industry.
Emerson Power Transmission (Wkrs) | Liverpool, NY | 09/18/2002 | NAFTA-7,569 | Bearings.
Jackson Industries (Co.) | Maquoketa, IA | 09/18/2002 | NAFTA-7,570 | Tooling.
International Comfort (IBB) | Lewisburg, TN | 09/23/2002 | NAFTA-7,571 | Heating ventilation & air conditioning.
Percision Threading (UAW) | Cheboygan, MI | 09/24/2002 | NAFTA-7,572 | Taps, thread milling cutters.
Pass and Seymour (Co.) | Whitsett, NC | 09/24/2002 | NAFTA-7,573 | Electrical switch.
Radio Frequency Systems (Wrks) | Corvallis, OR | 09/19/2002 | NAFTA-7,574 | Multi Couplers.
Celestica Corp (Comp) | Foothill Ranch, CA | 09/24/2002 | NAFTA-7,575 | Electrical Systems.
Ametek, Inc (IUE) | Wilmington, MA | 09/24/2002 | NAFTA-7,576 | Aircraft/Aerospace Cables.
Decatur Mold Tool and Engineering (Wrks) | Sanford, NC | 09/26/2002 | NAFTA-7,577 | Design Molds and Tools.
Eviro Systems Furniture, Inc (Comp) | Grand Rapids, MI | 09/25/2002 | NAFTA-7,578 | Panels, Overhead File Cabinets.
Marconi Communications (Wrks) | Lorain, OH | 09/30/2002 | NAFTA-7,579 | Power and Power Distribution.
JTM Group, Inc. (Wrks) | Jamestown, NY | 09/11/2002 | NAFTA-7,580 | Plastic Injection Molds.
Inabata America Corp (Wrks) | El Paso, TX | 09/27/2002 | NAFTA-7,581 | Computer Ink Cartridge Assembly.
BBA Nonwovens Washougal, Inc (AWPPW) | Washougal, WA | 09/27/2002 | NAFTA-7,582 | Nonwoven Rolled Goods.
Doe Run Resources Corp. (The) (Comp) | Viburnum, MO | 10/02/2002 | NAFTA-7,583 | Lead Mining, Concentrating, Smelting.
Classic Clay Concepts (Comp) | Lake Oswego, OR | 09/25/2002 | NAFTA-7,584 | Terra Cotta, Earthenware Planters.
J and A Industrial Sheetmetal (Comp) | Bend, OR | 09/25/2002 | NAFTA-7,585 | Metal Parts.
Hershey Chocolate and Confectionery (Comp) | Wheatridge, CO | 09/18/2002 | NAFTA-7,586 | Chocolate.
Groupe Carbone Lorraine (UAW) | Wooster, OH | 09/30/2002 | NAFTA-7,587 | Pressure Vessels, Heat Exchangers.
Nash Garment Co (UNITE) | Nashville, NC | 07/16/2002 | NAFTA-7,588 | Children's Dresses.
Georgia Pacific Corp. (IAm) | Ft. Bragg, CA | 09/27/2002 | NAFTA-7,589 | Logs.
Jabil Circuit, Inc. (Wkrs) | Meridian, ID | 09/24/2002 | NAFTA-7,590 | Printed Circuit Assemblies.
Barth and Dreyfuss of California (Wrks) | Burbank, CA | 10/01/2002 | NAFTA-7,591 | Home Furnishing.
J-Star Industries, Inc. (Comp) | Ft. Atkinson, WI | 10/07/2002 | NAFTA-7,592 | Dairy Farm Equipment.
Deluxe Craft Photo Albums (Wrks) | Chicago, IL | 10/01/2002 | NAFTA-7,593 | Photo Albums.
Juno, Inc. (Wrks) | Blytheville, AR | 09/16/2002 | NAFTA-7,594 | Plastic Tool Parts.
Microelectronic Modules Corp (Wrks) | New Berlin, WI | 10/03/2002 | NAFTA-7,595 | Computer Chips.
La Grange Foundry, Inc. (Wrks) | La Grange, MO | 10/03/2002 | NAFTA-7,596 | Castings.
Spicer Axle Division (UAW) | Syracuse, IN | 10/03/2002 | NAFTA-7,597 | Cases and Carriers (Axle Components).
General Mills (Comp) | Hillsdale, MI | 10/02/2002 | NAFTA-7,598 | Bake Goods.
Waltec Forgings, Inc. (Comp) | Port Huron, MI | 10/07/2002 | NAFTA-7,599 | Non-Ferrous Forgings.
Autoline Industries, Inc. (Comp) | Oakbrook, IL | 10/07/2002 | NAFTA-7,600 | Water Pumps, Master Brake Cylinders.
Panavision (Wrks) | Woodland Hills, CA | 09/23/2002 | NAFTA-7,601 | Motion Pictures, Cameras, Lenses.
Anderson Packaging, Inc. (Comp) | Rockford, IL | 10/07/2002 | NAFTA-7,602 | Dentifrice in Pastic Dispensing Units.
Midwest Electric Products (Comp) | Mankato, MN | 08/19/2002 | NAFTA-7,603 | Electrical Equipment.
Nortel Networks (Wrks) | Research Triangle Park, NC | 09/23/2002 | NAFTA-7,604 | Optical Long Haul Backbone Networs.
Consolidated Freight Ways (Wrks) | El Paso, YX | 10/07/2002 | NAFTA-7,605 | Transports Freight.
MJ Soffe (Wrks) | Wallace, NC | 10/09/2002 | NAFTA-7,606 | T-Shirts.
RBX Industries, Inc. (Comp) | Colt, AR | 10/04/2002 | NAFTA-7,607 | Closed Cell Foam Rubber.
Arkansas Metal Castings, Inc. (Comp) | Fort Smith, AR | 10/08/2002 | NAFTA-7,608 | Gray and Ductile Iron Castings.
General Electric Transportation Systems (Comp) | Warrensburg, MO | 10/07/2002 | NAFTA-7,609 | Printed Circuit Boards.
Mountain Fir Chip Co (Wrks) | The Dalles, OR | 10/08/2002 | NAFTA-7,610 | Wood Chips.
Unison Industries (Comp) | Fort Worth, TX | 10/14/2002 | NAFTA-7,611 | Electrical Wire Harnesses.
SMTC Manufacturing Corp. (Co.) | Austin, TX | 08/22/2002 | NAFTA-7,612 | Computer Printed Circuit Assemblies.
Legato Systems, Inc. (Wrks) | Orem, UT | 10/15/2002 | NAFTA-7,613 | Customer Support Functions.
Interlake Material Handling (Wrks) | Pontiac, MI | 10/09/2002 | NAFTA-7,614 | Industrial Rack and Beams.
Sermatech-Mal Tool (Wrks) | Manchester, CT | 10/10/2002 | NAFTA-7,615 | Aircraft Engine Components.
Oneida Limited Silversmiths (Wrks) | Sherrill, NY | 10/11/2002 | NAFTA-7,616 | Silverware.
Tecmotiv Corp. (Wrks) | Tonawanda, NY | 10/18/2002 | NAFTA-7,617 | Tank and Trucks Replacement Parts.
Alcatel USA, Inc. (Wrks) | Plano, TX | 10/18/2002 | NAFTA-7,618 | Litespan 2000 Access Products.
Empire Blue Cross Blue Shield (Wrks) | Syracuse, NY | 09/27/2002 | NAFTA-7,619 | Technical Help Deck—Insurance.
Trailmobile LLC (PACE) | Charleston, IL | 09/23/2002 | NAFTA-7,620 | Semi-Trailers.
Intertape Polymer Group (Co.) | Menasha, WI | 10/21/2002 | NAFTA-7,621 | Tape.
Eaton Corp (Wrks) | Rochester Hills, MI | 10/14/2002 | NAFTA-7,622 | Intake Manifolds.
ATK North America (Wrks) | Falmouth, KY | 10/18/2002 | NAFTA-7,623 | Automotive Engines.
Pohlman Foundry Co., Inc (IAMAW) | Buffalo, NY | 10/15/2002 | NAFTA-7,624 | Poured Iron Castings.
Pollak (Co.) | Boston, MA | 10/22/2002 | NAFTA-7,625 | Actuators.

[FR Doc. 02-29624 Filed 11-20-02; 8:45 am]

BILLING CODE 4510-30-M